DEPARTMENT OF ENERGY

Federal Energy Regulatory Commission

[Docket No. CP15-557-000]

Total Peaking Services, LLC; Notice of Schedule for Environmental Review of the Vaporization Capacity Increase and Bog Compressor Project

On September 23, 2015, Total Peaking Services, LLC (Total Peaking) filed an application in Docket No. CP15-557-000 requesting a Certificate of Public Convenience and Necessity pursuant to Section 7(c) of the Natural Gas Act to construct and operate certain liquefied natural gas facilities. The proposed project is known as the Vaporization Capacity Increase and BOG Compressor Project (Project), and would increase the vaporization send out capacity at Total Peaking's Milford, Connecticut facility from 90 million cubic feet per day (MMcf/d) to 105 MMcf/d, along with the construction and operation of an additional boil-off gas compressor unit.

On October 7, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA October 14, 2016

90-day Federal Authorization Decision Deadline January 12, 2017

If a schedule change becomes necessary, additional notice will be provided so that the relevant agencies are kept informed of the Project's progress.

Project Description

The Project would include modifications at Total Peaking's Milford, Connecticut facility. Total Peaking would remove its existing vaporizers and install a single vaporizer operating at 105 MMcf/d as well as a heater system for the new vaporizer. Total Peaking would also install a third boil-off gas compressor unit powered by a 150 horsepower electric motor as well as ancillary electrical upgrades.

Background

On November 9, 2015, the Commission issued a Notice of Intent to Prepare an Environmental Assessment for the Proposed Vaporization Capacity Increase and BOG Compressor Project and Request for Comments on Environmental Issues (NOI). The NOI was sent to affected landowners; federal, state, and local government agencies; elected officials; environmental and public interest groups; Native American tribes; other interested parties; and local libraries and newspapers. The Commission did not receive any comments in response to the NOI.

The U.S. Department of Transportation is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-557), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: September 2, 2016.
Kimberly D. Bose,
Secretary.

[FR Doc. 2016-21744 Filed 9-8-16; 8:45 am]

BILLING CODE 6717-01-P